DEPARTMENT OF HEALTH AND HUMAN SERVICES

Administration on Aging

2005 White House Conference on Aging Policy

AGENCY: Administration on Aging, HHS.

ACTION: Notice of meeting of the 2005 White House Conference on Aging Policy Committee.

SUMMARY: Pursuant to section 10(a) of the Federal Advisory Committee Act as amended (5 U.S.C. appendix 2), notice is hereby given that the Secretary has established the date and time for the initial meeting of the Policy Committee, 2005 White House Conference on Aging. The meeting will be open to the public, with attendance limited to space available. Individuals who plan to attend and need special assistance, such as sign language interpretation or other reasonable accommodations, should inform the contact person listed below in advance of the meeting.

Any interested person may file written comments with the Policy Committee by forwarding the statement to the contact person listed on this notice. The statement should include name, address, telephone number, e-mail address, and when applicable, the business or professional affiliation of the interested person.

DATES: The meeting will be held Wednesday, July 14, 2004, from 9 a.m. to 5 p.m. Because of scheduling conflicts, notice of this meeting is being given under 15 days.

ADDRESSES: The meeting will be held at the Washington Court Hotel, 525 New Jersey Avenue, NW., Washington, DC 20001, telephone: (202) 628-2100 or (800) 321-3010.

FOR FURTHER INFORMATION CONTACT: Mame Templeton, White House Conference on Aging, Administration on Aging, Department of Health and Human Services, Washington, DC 20201, 202-357-3514, Mame.Templeton@aoa.gov.

SUPPLEMENTARY INFORMATION: Pursuant to the Older Americans Act Amendments of 2000 (Pub. L. 106-501, November 2000), the Policy Committee will meet initially to organize efforts towards pursuing its duties in support of the White House Conference on Aging and to begin discussions on the conference agenda.

Dated: June 30, 2004.
Josefina G. Carbonell,
Assistant Secretary for Aging.

[FR Doc. 04-15286 Filed 7-6-04; 8:45 am]

BILLING CODE 4154-01-P